DEPARTMENT OF TRANSPORTATION

Federal Aviation Administration

[Summary Notice No. PE-2002-47]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Vanessa Wilkins, Office of Rulemaking (ARM-1), Federal Aviation Administration, 800 Independence Avenue, SW., Washington, DC 20591. Tel. (202) 267-8029.

This notice is published pursuant to 14 CFR §§ 11.85 and 11.91.

Issued in Washington, DC on July 31, 2002.
Donald P. Byrne,
Assistant Chief Counsel for Regulations.

Dispositions of Petitions

Docket No.: FAA-2002-11900.

Petitioner: AMSAFE Aviation.

Section of 14 CFR Affected: 14 CFR 21.325(b)(3).

Description of Relief Sought/Disposition: To permit AMSAFE to issue export airworthiness approvals for class II and class III products manufactured by AMSAFE Aviation UK in the United Kingdom under AMSAFE's technical standard order authorizations. Grant, 07/19/2002, Exemption No. 7354A.

Docket No.: FAA-2002-11901.

Petitioner: Embraer Aircraft Maintenance Services, Inc.

Section of 14 CFR Affected: 14 CFR 145.45(f).

Description of Relief Sought/Disposition: To permit Embrarer to establish and maintain a number of fixed locations within Embraer for the repair station inspection procedures manual (IPM) and assign IPMs to key individuals within departments instead of giving a copy of the IPM to each of its supervisory and inspection personnel. Grant, 07/12/2002, Exemption No. 7835.

Docket No.: FAA-2002-12332.

Petitioner: Chromalloy Gas Turbines Corporation.

Section of 14 CFR Affected: 14 CFR 145.45(f).

Description of Relief Sought/Disposition: To permit Chromalloy to make its IPM available electronically to its supervisory, inspection, and other personnel rather than give a copy of the IPM to each of its supervisory and inspection personnel. Grant, 07/16/2002, Exemption No. 7836.

Docket No.: FAA-2002-12402.

Petitioner: VARIG ENGENHARIE E MANUTENÇÃO S.A.

Section of 14 CFR Affected: 14 CFR 145.47(b).

Description of Relief Sought/Disposition: To permit VARIG to use the calibration standards of the Instituto Nacional de Metrologia, Normalização e Qualidade Industrial, Brazil's national standards laboratory, in lieu of the calibration standards of the U.S. National Institute of Standards and Technology, formerly the National Bureau of Standards, to test its inspection and test equipment. Grant, 07/16/2002, Exemption No. 7837.

Docket No.: FAA-2002-12432.

Petitioner: American Airlines, Inc.

Section of 14 CFR Affected: 14 CFR 43.3(a) and 121.709(b)(3).

Description of Relief Sought/Disposition: To permit American to allow its properly trained and certificated flight engineers to stow passenger supplemental oxygen masks during flight and to make the appropriate entry in the aircraft maintenance logbook. Grant, 07/16/2002, Exemption No. 2678M.

Docket No.: FAA-2002-12456 .

Petitioner: Unison Industries.

Section of 14 CFR Affected: 14 CFR 145.45(f).

Description of Relief Sought/Disposition: To permit Unison to give copies of its IPM to key individuals and make the manual available electronically to all other employees, rather than give a paper copy of the IPM to each of its supervisory and inspection personnel. Grant, 07/10/2002, Exemption No. 7833.

[FR Doc. 02-19682 Filed 8-2-02; 8:45 am]

BILLING CODE 4910-13-P